FEDERAL RESERVE SYSTEM

Proposed Agency Information Collection Activities; Comment Request

Correction

In notice document 2024-22635 beginning on page 80242 in the issue of Wednesday, October 2, 2024, make the following correction:

On page 80242, in the third column, in the 23rd and 24th lines, “[insert date 60 days after publication in the Federal Register]” should read “December 2, 2024”.

[FR Doc. C1-2024-22635 Filed 10-16-24; 8:45 am]

BILLING CODE 0099-10-D